DEPARTMENT OF TRANSPORTATION

National Highway Traffic Safety Administration

[Docket No. NHTSA-2025-0011]

Agency Information Collection Activities; Submission to the Office of Management and Budget for Review and Approval; Request for Comment; National Roadside Survey of Alcohol and Drug Prevalence of Road Users: 2025

AGENCY: National Highway Traffic Safety Administration (NHTSA), Department of Transportation (DOT).

ACTION: Notice and request for comments on a new information collection.

SUMMARY: In compliance with the Paperwork Reduction Act of 1995 (PRA), this notice announces that the Information Collection Request (ICR) abstracted below will be submitted to the Office of Management and Budget (OMB) for review and approval. The ICR describes the nature of the information collection and its expected burden. The National Highway Traffic Safety Administration (NHTSA) intends to conduct a new information collection for a National Roadside Survey (NRS) of alcohol and other drug prevalence among drivers and other road users (ORUs; e.g., pedestrians, bicyclists, electric scooter riders, and those with mobility aids). NHTSA will conduct two studies. Study 1 will focus on drivers but include convenience sampling of ORUs passing by the driver data collection locations. Study 2 is a pilot test assessing the feasibility of an NRS specific to ORUs. Both will collect breath and oral fluid specimens, demographic information, and self-report questionnaire data on roads across the country. Participation will be voluntary and anonymous. A Federal Register notice with a 60-day comment period soliciting comments on the following information collection was published on November 20, 2024. NHTSA received 6 comments, which we address below.

DATES: Comments must be submitted on or before October 20, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Stacy Jeleniewski, Contracting Officer's Representative, Office of Behavioral Safety Research (NPD-310), stacy.jeleniewski@dot.gov, National Highway Traffic Safety Administration, W46-491, 1200 New Jersey Avenue SE, Washington, DC 20590.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

Title: National Roadside Survey of Alcohol and Drug Prevalence of Road Users: 2025.

OMB Control Number: New.

Form Numbers: NHTSA Forms #1762, 1763, 1764.

Type of Request: Request for approval of a new information collection.

Type of Review Requested: Regular.

Requested Expiration Date of Approval: 3 years from date of approval.

Summary of the Collection of Information: NHTSA is seeking approval to conduct two studies. Study 1 will focus on drivers but include convenience sampling of ORUs passing by the data collection locations. Study 2 is a Pilot Test assessing the feasibility of an NRS specific to ORUs. Both will collect breath and oral fluid specimens, demographic information, and self-report questionnaire data on roads across the country. Participation will be voluntary and anonymous.

Study 1 will recruit drivers at the roadside to test for alcohol and other selected drugs known, or suspected, to impair cognitive and motor skills important for driving safety. The study will operate data collection research teams across the country to collect breath samples, oral fluid specimens, and questionnaire data to be analyzed to achieve NHTSA's research objectives. The study will allow NHTSA to estimate the population-level prevalence of alcohol- and other drug-positive driving on roadways in the U.S. for the selected days and times. Information will also be requested from other road users who pass by the Study 1 data collection locations.

Study 2 examines the viability of a stand-alone roadside nationwide survey focused solely on ORUs. This effort uses 20 new data collection locations, inclusive of 4 PSUs with 5 locations in each. This effort is to inform NHTSA on the feasibility of such a targeted roadside survey, and to determine the level of effort to execute a nationwide study of ORUs. The same procedures as Study 1 will be used.

Description of the Need for the Information and Proposed Use of the Information: NHTSA was established to reduce deaths, injuries, and economic losses resulting from motor vehicle crashes on the Nation's highways. As part of this statutory mandate, NHTSA is authorized to conduct research for the development of traffic safety programs. Subchapter V of Chapter 301 of Title 49 of the United States Code (U.S.C.) authorizes the Secretary of Transportation to conduct motor vehicle safety research. 49 U.S.C. 30182. Pursuant to Section 1.95 of Title 49 of the Code of Federal Regulations (CFR), the Secretary has delegated this authority to the National Highway Traffic Safety Administration (NHTSA). Additionally, Title 23, United States Code, Chapter 4, Section 403 gives the Secretary of Transportation (NHTSA by delegation) authorization to use funds appropriated to conduct research and development activities. The agency develops, promotes, and implements educational, engineering, and enforcement programs with the goal of ending preventable tragedies and reducing economic costs associated with vehicle use and highway travel. Current data is essential to develop appropriate approaches to improve traffic safety. This is especially true for information on impaired driving, both for alcohol, and for drug use and driving where data is much more limited.

Drugs affect biology, perception, psychomotor ability, and behavior. With the exception of alcohol, however, relatively little is known about the prevalence of drugged driving currently on U.S. roadways because of the complexities associated with collecting, analyzing, and reporting information on other drug use. Given the number of States legalizing medicinal and/or recreational use of cannabis, and other issues such as the increase in opioid use in the U.S., more information is needed on the level of alcohol-involved and other drug-involved driving on the nation's roadways to better inform NHTSA's countermeasure development efforts.

NHTSA and other traffic safety stakeholders have sought to learn about these issues through varied methodological approaches. For Study 1, researchers will collaborate with State and local officials to collect data at the roadside at 300 roadway locations (60 primary sampling units [PSUs], also known as “sites,” with 5 roadway locations each) across the country. Roadside surveys such as this provide objective measures of alcohol and other drugs in drivers' systems at the time they are actually driving, based on tests results from breath samples and oral fluid samples collected using established sample collection methods. All samples will then be tested, and results confirmed by a leading forensic toxicology laboratory. This approach will allow for the estimation of alcohol and other drug prevalence among the non-crash-involved general driving population in the U.S. for the selected days and times studied.

Study 1 also explores whether it is possible to collect information from ORUs encountered at the driver data collection locations including individuals in transit on foot, on a bicycle, electric scooter, or with a mobility aid.

Study 2 is a separate test to determine the viability of a stand-alone roadside survey focused solely on ORUs (i.e., excluding drivers) to estimate the population level prevalence of alcohol and other drug use among other road user types for specified days and times. Study 2 will select 20 new data collection locations to recruit a convenience sample of ORUs.

The results of this project will assist NHTSA as the agency develops its programmatic activities aimed at reducing crashes and fatalities that may be associated with the use of alcohol and/or other drugs. It is expected the results of this study will be compared to future studies to monitor alcohol and other drug prevalence trends over time on the nation's roadways.

60-Day Notice: A Federal Register notice with a 60-day comment period soliciting public comments on the following information collection was published on November 20, 2024 (89 FR 43505). Five comments were received during the comment period; One additional comment was received the next day. The American Association of Motor Vehicle Administrators (AAMVA) expressed support for the project, stating they are “supportive of the opportunity to have greater transparency into safety data that can help roadway safety researchers and practitioners to better understand the prevalence of drivers with one or more drugs in their system while driving.” Four comments were made by individuals but were not relevant to the information collection. The Insurance Institute for Highway Safety (IIHS) provided comments, after the deadline, on January 22, 2025. The IIHS expressed support for the project, specifically, that “a 2025 survey is important for providing up-to-date alcohol and drug prevalence estimates among drivers” and “agrees that other road users such as pedestrians, bicyclists, and electric scooter riders will be a useful addition to the survey, as the number of non-occupant fatalities on U.S. roadways has been increasing in recent years.” There were no adverse comments, and no changes were made to this information collection in response to comments.

Affected Public: Study 1 will recruit volunteers who are drivers of passenger motor vehicles on active roadways at the 300 selected sampling locations. ORUs passing by the Study 1 data collection locations will also be recruited to participate. The site and location sampling are based on recruitment of drivers. For ORUs, participants will be recruited to the extent they are available at the locations. Study 2 will focus specifically on ORUs (i.e., excluding drivers) at 20 new sampling locations across 4 PSUs to assess the feasibility of conducting a stand-alone nationwide roadside survey on these vulnerable road user populations.

Estimated Number of Respondents: Participation in this study will be voluntary and anonymous. Study 1 expects to contact approximately 11,750 drivers at the selected sampling locations with 9,000 agreeing to participate. Based on the last NRS results, it is expected 8,000 drivers will fully participate and 1,000 will partially participate (i.e., stops providing information before full data collection is complete). Study 1 also expects to contact 750 ORUs at the Study 1 data collection locations with 500 fully participating and 60 partially participating. Study 2 of only ORUs expects to contact approximately 750 individuals with 500 fully participating and 60 partially participating.

Frequency: Both Study 1 and Study 2 are one-time data collections. Because 5 data collection locations are located in each PSU, there is a remote chance an individual could participate more than once in either effort. Because data collection is anonymous, it will not be possible to know if an individual participates more than once. However, this is not likely and not expected, as potential participants will not know data collection locations or times ahead of time, and the time at any location will be limited.

Estimated Total Annual Burden Hours: The total annual burden hours for the two studies is estimated to be 531 hours. The total amount of burden across both studies combined is estimated to be 1,593 hours. This includes approximately 1,500 hours for the 9,000 participants (8,000 Study 1 drivers, 500 Study 1 ORUs, 500 Study 2 ORUs) who will fully participate. The expected completion time for each individual is 10 minutes. The remaining 93 hours are for the 1,120 people who will partially participate (1,000 Study 1 drivers, 60 Study 1 ORUs, 60 Study 2 ORUs). It is expected these individuals will spend 5 minutes on average for partial participation. The total amount of burden cost to respondents to participate across both studies is estimated to be $72,640 (see Table 1). The total annual burden cost to respondents is $24,213.

Table 1—Summary of Total Burden Hours and Estimated Costs by Respondent Type
Type of respondent | Number of respondents | Minutes per respondent | Hourly wage + 30% fringe ($35.07 + $10.52) * | Total estimated burden hours | Estimated cost
Study 1 (NRS)
Driver fully participates | 8,000 | 10 | $45.59 | 1,333.33 | $60,786.51
Driver partially participates | 1,000 | 5 | 45.59 | 83.33 | 3,799.01
Subtotal |  |  |  |  | 64,585.52
ORU fully participates | 500 | 10 | 45.59 | 83.33 | 3,799.01
ORU partially participates | 60 | 5 | 45.59 | 5 | 227.95
Subtotal |  |  |  |  | 4,026.96
Total |  |  |  | 1,504.99 (1,505) | 68,612.48 (68,612)
Study 2 (ORU Pilot)
ORU fully participates | 500 | 10 | 45.59 | 83.33 | 3,799.01
ORU partially participates | 60 | 5 | 45.59 | 5 | 227.95
Total |  |  |  | 88.33 (88) | 4,026.96 (4,027)
Both Studies Combined
Fully participates | 9,000 | 10 | 45.59 | 1,500.00 | 68,385.00
Partially participates | 1,120 | 5 | 45.59 | 93.33 | 4,254.91
Grand Total | 10,120 |  |  | 1,593.33 (1,593) | 72,639.91 (72,640)
* See July 2024 total private average hourly wages from the U.S. Bureau of Labor Statistics at https://www.bls.gov/news.release/empsit.t19.htm;. Fully loaded wage is inclusive of a 30% addition to the base hourly wage to account for fringe benefits.

Estimated Total Annual Burden Cost: Participation in this study is voluntary and there are no costs to respondents beyond the time spent hearing about the study and participating in data collection if they decide to participate. Participants will incur no burden related to annual reporting or record keeping due to the collection of this new information.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Jane Terry,
Acting Associate Administrator, Research and Program Development.

[FR Doc. 2025-18068 Filed 9-17-25; 8:45 am]

BILLING CODE 4910-59-P